DEPARTMENT OF COMMERCE

National Oceanic and Atmospheric Administration

50 CFR Part 648

[Docket No. 071212833-8179-02]

RIN 0648-XL76

Fisheries of the Northeastern United States; Atlantic Bluefish Fishery; Quota Transfer

AGENCY: National Marine Fisheries Service (NMFS), National Oceanic and Atmospheric Administration (NOAA), Commerce.

ACTION: Temporary rule; inseason quota transfer.

SUMMARY: NMFS announces that the State of Connecticut, the State of Rhode Island, the State of Delaware, and the State of Maryland are transferring commercial bluefish quota to the State of New York from their 2008 quota. By this action, NMFS adjusts the quotas and announces the revised commercial quota for each state involved.

DATES: Effective November 19, 2008, through December 31, 2008.

FOR FURTHER INFORMATION CONTACT: Emily Bryant, Fishery Management Specialist, (978) 281-9244, fax (978) 281-9135.

SUPPLEMENTARY INFORMATION: Regulations governing the Atlantic bluefish fishery are found at 50 CFR part 648. The regulations require annual specification of a commercial quota that is apportioned among the coastal states from Florida through Maine. The process to set the annual commercial quota and the percent allocated to each state is described in § 648.160.

Two or more states, under mutual agreement and with the concurrence of the Administrator, Northeast Region, NMFS (Regional Administrator), can transfer or combine bluefish commercial quota under § 648.160(f). The Regional Administrator is required to consider the criteria set forth in § 648.160(f)(1) in the evaluation of requests for quota transfers or combinations.

Connecticut, Rhode Island, Maryland, and Delaware have agreed to transfer 20,000 lb (9,072 kg), 50,000 lb (22,680 kg), 50,000 lb (22,680 kg), and 90,000 lb (40,823 kg), respectively, of their 2008 commercial quotas to New York. The Regional Administrator has determined that the criteria set forth in § 648.160(f)(1) have been met. The revised bluefish quotas for calendar year 2008 are: New York, 1,157,057 lb (524,832 kg); Connecticut, 77,398 lb (35,107 kg); Rhode Island, 473,649 lb (214,844 kg); Maryland, 180,885 lb (82,048 kg); and Delaware, 54,463 lb (24,704 kg).

Classification

This action is taken under 50 CFR part 648 and is exempt from review under Executive Order 12866.

Authority: 16 U.S.C. 1801 et seq.

Dated: November 18, 2008.
Emily H. Menashes,
Acting Director, Office of Sustainable Fisheries, National Marine Fisheries Service.

[FR Doc. E8-27890 Filed 11-19-08; 4:15 pm]

BILLING CODE 3510-22-S